NUCLEAR REGULATORY COMMISSION

[Docket No. 50-382]

Entergy Operations Inc.; Notice of Withdrawal of Application for Amendment to Facility Operating License

The U.S. Nuclear Regulatory Commission (the Commission) has granted the request of Entergy Operations Inc. (the licensee), to withdraw its August 4, 1999, application for proposed amendment to Facility Operating License No. NPF-38 for the Waterford Steam Electric Station, Unit 3, located in St. Charles Parish, Louisiana.

The proposed change would have primarily modified Technical Specification (TS) 3.5.2 to extend the allowed outage time to seven days for one high pressure safety injection train inoperable and TS 3.5.3 to change the end-state to HOT SHUTDOWN with at least one OPERABLE shutdown cooling train in operation.

The Commission had previously issued a Notice of Consideration of Issuance of Amendment published in the Federal Register on January 26, 2000 (65 FR 4277). However, by letter dated April 20, 2000, the licensee withdrew the proposed change.

For further details with respect to this action, see the application for amendment dated August 4, 1999, and the licensee's letter dated April 20, 2000, which withdrew the application for license amendment. These documents may be examined, and/or copied for a fee, at the NRC's Public Document Room, located at One White Flint North, 11555 Rockville Pike (first floor), Rockville, Maryland. Publicly available records will be accessible electronically from the ADAMS Public Library component on the NRC Web site (the Electronic Reading Room).

Dated at Rockville, Maryland, this 18th day of October 2000.
For the Nuclear Regulatory Commission.
N. Kalyanam,
Project Manager, Project Directorate IV & Decommissioning, Division of Licensing Project Management, Office of Nuclear Reactor Regulation.

[FR Doc. 00-27510 Filed 10-25-00; 8:45 am]

BILLING CODE 7590-01-P